DEPARTMENT OF COMMERCE

International Trade Administration

[A-489-807]

Certain Steel Concrete Reinforcing Bars from Turkey: Notice of Court Decision Not in Harmony with Final Results of Administrative Review

AGENCY: Import Administration, International Trade Administration, Department of Commerce.

SUMMARY: On May 22, 2009, the United States Court of International Trade (CIT) sustained the Department of Commerce's (the Department's) results of redetermination pursuant to the CIT's remand in Nucor Corporation, Gerdau Ameristeel Corporation, and Commercial Metals Company v. United States, Court No. 07-00457 (Apr. 14, 2009) (Nucor I). See Results of Redetermination Pursuant to Remand, dated January 31, 2009 (found at http://ia.ita.doc.gov/remands); and Nucor Corporation, Gerdau Ameristeel, Inc., and Commercial Metals Company v. United States, Slip Op. 09-50 (May 22, 2009) (Nucor II). Consistent with the decision of the United States Court of Appeals for the Federal Circuit (CAFC) in Timken Co. v. United States, 893 F.2d 337 (Fed. Cir. 1990) (Timken), the Department is notifying the public that the final judgment in this case is not in harmony with the Department's final results of the administrative review of the antidumping duty order on certain steel concrete reinforcing bars (rebar) from Turkey covering the period of review (POR) of April 1, 2005, through March 31, 2006. See Certain Steel Concrete Reinforcing Bars From Turkey; Final Results of Antidumping Duty Administrative Review and New Shipper Review and Determination To Revoke in Part, 72 FR 62630 (Nov. 6, 2007) (Final Results).

EFFECTIVE DATE: June 5, 2009.

FOR FURTHER INFORMATION CONTACT: Elizabeth Eastwood, AD/CVD Operations, Office 2, Import Administration International Trade Administration, U.S. Department of Commerce, 14th Street and Constitution Avenue, NW, Washington, DC, 20230; telephone (202) 482-3874.

SUPPLEMENTARY INFORMATION:

Background

On November 6, 2007, the Department published its final results in the antidumping duty administrative review of rebar from Turkey covering the POR of April 1, 2005, through March 31, 2006. See Final Results. In the Final Results, the Department imputed an amount for depreciation related to an account listed as “melt shop modernization” in the books and records of one respondent, Ekinciler Demir ve Celik Sanayi A.S. and Ekinciler Dis Ticaret A.S. (collectively, “Ekinciler”), as had been done in prior segments of the proceeding. In Nucor I, the CIT determined that the Department's Final Results were not supported by substantial evidence on the record, and it remanded the issue of the imputed depreciation calculated for Ekinciler to the Department. Specifically, the CIT directed the Department to redetermine “imputed depreciation for Ekinciler without the amount that currently reflects the foreign exchange losses in the melt shop modernization account.”

On April 14, 2009, the Department issued its final results of redetermination pursuant to Nucor I. The remand redetermination explained that, in accordance with the CIT's instructions, the Department recalculated the cost of production for Ekinciler excluding the depreciation on the foreign exchange losses recorded in Ekinciler's melt shop modernization account. The Department's redetermination resulted in changes to the Final Results weighted-average margin for Ekinciler from 1.66 percent to 0.11 percent.

Timken Notice

In its decision in Timken, 893 F.2d at 341, the CAFC held that, pursuant to section 516A(e) of the Tariff Act of 1930, as amended (the Act), the Department must publish a notice of a court decision that is not “in harmony” with a Department determination and must suspend liquidation of entries pending a “conclusive” court decision. The CIT's decision in Nucor v. II on May 22, 2009, constitutes a final decision of that court that is not in harmony with the Department's Final Results. This notice is published in fulfillment of the publication requirements of Timken. Accordingly, the Department will continue the suspension of liquidation of the subject merchandise pending the expiration of the period of appeal or, if appealed, pending a final and conclusive court decision. In the event the CIT's ruling is not appealed or, if appealed, upheld by the CAFC, the Department will instruct U.S. Customs and Border Protection to assess antidumping duties on entries of the subject merchandise during the POR from Ekinciler based on the revised assessment rates calculated by the Department.

This notice is issued and published in accordance with section 516A(c)(1) of the Tariff Act of 1930, as amended.

Dated: June 1, 2009.
Ronald K. Lorentzen,
Acting Assistant Secretary for Import Administration.

[FR Doc. E9-13193 Filed 6-4-09; 8:45 am]

BILLING CODE 3510-DS-S